SECURITIES AND EXCHANGE COMMISSION

Sunshine Act Meeting

Notice is hereby given, pursuant to the provisions of the Government in the Sunshine Act, Pub. L. 94-409, that the Securities and Exchange Commission will hold the following meeting during the week of November 5, 2001:

An open meeting will be held on Wednesday, November 7, 2001, in Room 1C30, the William O. Douglas Room, at 10 a.m.

The subject matters of the open meeting scheduled for Wednesday, November 7, 2001, will be:

1. The Commission will consider whether to propose amendments to rule 17a-8 under the Investment Company Act of 1940. Rule 17a-8 permits certain affiliated investment companies to merge without obtaining individual exemptive relief. The amendments to Rule 17a-8 would expand the types of mergers that can proceed under the rule. The amendments would also add to the rule certain new conditions designed to protect the interests of fund shareholders.

For further information, please contact Hester Peirce, Attorney, Division of Investment Management, at (202) 942-0690.

2. The Commission will consider a recommendation to issue a concept release regarding actively managed exchange-traded funds. Currently, all exchange-traded funds are based on various equity market indices. The concept release would seek comment from a wide range of parties on potential issues raised by the prospect of an exchange-traded fund with an actively managed portfolio.

For further information, please contact David B. Smith, Associate Director, Division of Investment Management at (202) 942-0525, Nadya B. Roytblat, Assistant Director, Division of Investment Management at (202) 942-0564, or Michael W. Mundt, Branch Chief, Division of Investment Management at (202) 942-0564.

At times, changes in Commission priorities require alterations in the scheduling of meeting items. For further information and to ascertain what, if any, matters have been added, deleted or postponed, please contact: The Office of the Secretary at (202) 942-7070.

Dated: October 30, 2001.
Jonathan G. Katz,
Secretary.

[FR Doc. 01-27679 Filed 10-31-01; 12:15 pm]

BILLING CODE 8010-01-M